DEPARTMENT OF COMMERCE

International Trade Administration

[A-570-892]

Carbazole Violet Pigment 23 from the People's Republic of China: Notice of Rescission of Antidumping Duty Administrative Review

AGENCY: Import Administration, International Trade Administration, Department of Commerce.

EFFECTIVE DATE: December 17, 2007.

FOR FURTHER INFORMATION CONTACT: Marin Weaver or Blanche Ziv, AD/CVD Operations, Office 8, Import Administration, Room 1870, International Trade Administration, U.S. Department of Commerce, 14th Street and Constitution Avenue, NW, Washington, DC 20230; telephone: (202) 482-2336 and (202) 482-4207, respectively.

SUPPLEMENTARY INFORMATION:

Background

On December 1, 2006, the Department of Commerce (“the Department”) published a notice of opportunity to request an administrative review of the antidumping duty order on carbazole violet pigment 23 from the People's Republic of China (“PRC”). See Antidumping or Countervailing Duty Order, Finding, or Suspended Investigation; Opportunity to Request Administrative Review, 71 FR 69543 (December 1, 2006). On December 29, 2006, Nation Ford Chemical Company and Sun Chemical Company (“Petitioners”) requested that the Department conduct an administrative review of 13 companies, including Trust Chem Co. Ltd. (“Trust Chem”). On January 4, 2007, Trust Chem also requested an administrative review of its exports. The Department published a notice of initiation of the antidumping duty administrative review of carbazole violet pigment 23 from the PRC for the period December 1, 2005, through November 30, 2006, covering the 13 companies. See Initiation of Antidumping and Countervailing Duty Administrative Reviews and Request for Revocation in Part, 72 FR 5005 (February 2, 2007). On May 2 and May 3, 2007, Petitioners withdrew their request for an administrative review of the 12 companies for which they were the sole requestor. On June 25, 2007, the Department published a notice rescinding the review on these 12 companies. See Carbazole Violet Pigment 23 From the People's Republic of China: Notice of Rescission, in Part, of Antidumping Duty Administrative Review, 72 FR 34670 (June 25, 2007). Therefore, Trust Chem is the sole party who remained covered by this administrative review.

Rescission of Review

On November 19, 2007, the Department issued a memorandum stating its intent to rescind the administrative review on Trust Chem because there are no entries on which the Department can assess duties during the POR. See Memorandum regarding, “Intent to Rescind Antidumping Duty Administrative Review on Trust Chem Company Limited for Carbazole Violet Pigment 23 from the People's Republic of China” (November 19, 2007) (“Intent to Rescind Memo”). As stated in the Intent to Rescind Memo, it is the Department's practice not to conduct an administrative review when there are no entries to be reviewed. Furthermore, pursuant to 19 CFR 351.213(d)(3), the Department will rescind an administrative review in whole or with respect to a particular exporter if it concludes that during the POR there were “no entries, exports, or sales of the subject merchandise.” Id. For a detailed discussion of the specific reasons the Department is rescinding this review with regard to Trust Chem, which are not subject to public summary, see the Intent to Rescind Memo.

The Department invited all interested parties to submit comments on its Intent to Rescind Memo, but did not receive any comments. Therefore, based on the Department's practice supported by substantial precedent, the Department is rescinding the review with respect to Trust Chem, pursuant to 19 CFR 351.213(d)(3).¹

¹ See e.g., Certain Cut-to-Length Carbon-Quality Steel Products from Italy: Final Results and Partial Rescission of Antidumping Duty Administrative Review, 71 FR 39299, 39302 (July 12, 2006). See also Notice of Final Results of Antidumping Duty Administrative Review: Portable Electric Typewriters from Japan, 56 FR 14072, 14073 (April 5, 1991).

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 10, 2007.
Gary Taverman,
Acting Deputy Assistant Secretary for Import Administration.

[FR Doc. E7-24368 Filed 12-14-07; 8:45 am]

BILLING CODE 3510-DS-S